COMMODITY FUTURES TRADING COMMISSION

Global Markets Advisory Committee

AGENCY: Commodity Futures Trading Commission.

ACTION: Notice of meeting.

SUMMARY: The Commodity Futures Trading Commission (CFTC) announces that on October 5, 2023, 2023, from 1:00 p.m. to 5:00 p.m. (Eastern Daylight Time), the Global Markets Advisory Committee (GMAC or Committee) will hold an in-person meeting for GMAC members at the CFTC's Washington, DC headquarters, with options for the public to attend in-person and virtually. At this meeting, the GMAC will hear a presentation from the GMAC's Global Market Structure Subcommittee on the Subcommittee's workstreams involving U.S. Treasury market reforms, global standards and best practices for market volatility controls and circuit breakers, improving liquidity across asset classes, and international alignment of trading and clearing obligations to address market fragmentation, and consider recommendations from the Subcommittee on such workstreams. At this meeting, the GMAC will also hear a presentation from the GMAC's Technical Issues Subcommittee on the Subcommittee's workstreams involving international standardization and amalgamation of trade reporting for swaps market oversight, global coordination of market events, and improving efficiencies in post-trade processes, and consider recommendations from the Subcommittee on such workstreams. Additionally, the GMAC will hear a presentation from the GMAC's Digital Asset Markets Subcommittee on the Subcommittee's workstreams involving industry standards and best practices for tokenized asset markets, the regulation of non-fungible tokens (NFTs) and utility tokens, and identification of other issues to address in digital finance and tokenization of assets, non-financial activities and Web3, and blockchain technology and consider recommendations from the Subcommittee on such workstreams. Finally, the GMAC will also address procedural matters, including topics of discussion on a forward-looking basis.

DATES: The meeting will be held on October 5, 2023, from 1:00 p.m. to 5:00 p.m. (Eastern Daylight Time). Members of the public who wish to submit written statements in connection with the meeting should submit them by October 12, 2023.

ADDRESSES: The meeting will take place in the Conference Center at the CFTC's headquarters, Three Lafayette Centre, 1155 21st Street NW, Washington, DC 20581 for GMAC members and the public. Members of the public may also attend the meeting virtually via teleconference or live webcast. You may submit public comments, identified by Global Markets Advisory Committee, through the CFTC website at https://comments.cftc.gov. Follow the instructions for submitting comments through the Comments Online process on the website. If you are unable to submit comments online, contact Brigitte Weyls, Designated Federal Officer, via the contact information listed below to discuss alternate means of submitting your comments. Any statements submitted in connection with the committee meeting will be made available to the public, including publication on the CFTC website, https://www.cftc.gov.

FOR FURTHER INFORMATION CONTACT: Brigitte Weyls, GMAC Designated Federal Officer, Commodity Futures Trading Commission, 77 West Jackson Blvd., Suite 800, Chicago, IL 60604, (312) 596-0700; or Philip Raimondi, GMAC Alternate Designated Federal Officer, Commodity Futures Trading Commission, Three Lafayette Centre, 1155 21st Street NW, Washington, DC, (202) 418-5000.

SUPPLEMENTARY INFORMATION: The meeting will be open to the public with seating on a first-come, first-served basis. Members of the public may also listen to the meeting by telephone by calling a domestic or international toll or toll-free number to connect to a live, listen-only audio feed. Call-in participants should be prepared to provide their first name, last name, and affiliation. The meeting will also be open to the public via teleconference.

Domestic Toll and Toll Free Numbers:

833 435 1820 U.S. Toll Free

833 568 8864 U.S. Toll Free

+1 669 254 5252 U.S. (San Jose)

+1 646 828 7666 U.S. (New York)

+1 646 964 1167 U.S. (U.S. Spanish Line)

+1 415 449 4000 U.S. (U.S. Spanish Line)

+1 551 285 1373 U.S.

+1 669 216 1590 US (San Jose)

International Numbers are available here: https://cftc-gov.zoomgov.com/u/acVfb58GDz and will also be posted on the CFTC's website, https://www.cftc.gov, on the page for the meeting, under Related Links.

Call-In/Webinar ID: 161 832 1892.

Passcode/Pin Code: 566144.

Members of the public may also view a live webcast of the meeting via the https://www.cftc.gov website. The meeting agenda may change to accommodate other Committee priorities. For agenda updates, please visit https://www.cftc.gov/About/AdvisoryCommittees/GMAC.

After the meeting, a transcript of the meeting will be published through a link on the CFTC's website, https://www.cftc.gov. Persons requiring special accommodations to attend the meeting because of a disability should notify the individual listed in the FOR FURTHER INFORMATION CONTACT section of this notice.

Authority: 5 U.S.C. 1001 et seq.

Dated: September 5, 2023.
Robert Sidman,
Deputy Secretary of the Commission.

[FR Doc. 2023-19409 Filed 9-7-23; 8:45 am]

BILLING CODE 6351-01-P